DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before November 19, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or with proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) the application of such standard to such mine will result in a diminution of safety to the miners in such mine. In addition, the regulations at 30 CFR 44.10 and 44.11 establish the requirements and procedures for filing petitions for modifications.

II. Petitions for Modification

Docket Number: M-2007-058-C.

Petitioner: Bridger Coal Company, P.O. Box 68, Point of Rocks, Wyoming 82942.

Mine: Bridger Underground Coal Mine, MSHA I.D. No. 48-01646, located in Sweetwater County, Wyoming.

Regulation Affected: 30 CFR 75.1902(c)(2)(i), (ii), and (iii) (Underground diesel fuel-general requirements).

Modification Request: The petitioner requests a modification of the existing standard as it pertains to temporary underground diesel fuel storage area location within: (i) 500 feet of the loading point; (ii) 500 feet of the projected loading point where equipment is being installed; or (iii) 500 feet of the loading point where equipment is being removed. The petitioner states that: (1) Due to the size of the pillars utilized at the Bridger Underground mine (80′ x 200′) for ground control purposes in the longwall gate roads, there is little room to store all of the necessary longwall components and the temporary diesel transportation unit; (2) the longwall train consisting of transformers, emulsion pumps, emulsion tanks and other required longwall components is over 180 inches long and takes up a full pillar length; (3) the crosscuts are filled with either roof supports, and/or roof support material due to the necessity of “gob isolation” stopping and supplemental roof support (can cribs, wood cuts, rok-props, etc) along the gateroads. The petitioner proposes to: (1) Store the temporary diesel transportation unit no more than 1000 feet from the section loading point; or projected loading point during equipment installation; or the last designated loading point during equipment removal; (2) equip the diesel self-propelled fuel transportation unit and the diesel-fuel storage tank with MSHA approved automatic fire suppression systems that would be installed to meet the requirements of 30 CFR 75.1911; (3) have a certified person examine the temporary diesel fuel storage area twice each shift when work is performed inby the temporary diesel fuel storage area, and conduct a pre-shift examination of the diesel fuel storage area when work is performed in the area; (4) monitor the temporary diesel fuel storage area with an automated Atmospheric Monitoring System (AMS) that will give an alarm to the responsible person on the surface if an elevated carbon monoxide level is detected; (5) equip the self-propelled fuel transportation unit with either two additional #10 fire extinguishers or one additional #20 fire extinguisher; and (6) equip the diesel fuel storage tank with either two additional #10 fire extinguishers or one additional #20 fire extinguisher. The petitioner further states that: (1) The temporary diesel fuel storage area will be located in an area where the mine roof, mine ribs, and mine floor are well rock dusted and the roof will be supported to meet the requirements of 30 CFR 75.202 and maintain the area free of extraneous combustible materials or ignition sources; and, (2) signs will be posted at each entrance of the temporary diesel fuel storage area to identify the area as a diesel fuel storage area. The petitioner asserts that the proposed alternative method would provide at least the same measure of protection as the existing standard.

Docket Number: M-2007-059-C.

Petitioner: Mountain Coal Company, LLC, 5174 Highway 133, P.O. Box 591, Somerset, Colorado 81434.

Mine: West Elk Mine, MSHA I.D. No. 05-03672, located in Gunnison County, Colorado.

Regulation Affected: 30 CFR 75.335(c) (Seal requirement).

Modification Request: The petitioner requests a modification of the existing standard to permit welding, cutting, and soldering with an arc or flame hereinafter referred to as “hot work” within 150 feet of a seal with the following stipulations: (1) Affected personnel will be trained in the requirements of this petition for modification; (2) hot work will be done under the supervision of a qualified person who will continuously test for methane with means approved by the Secretary for detecting methane, and will make a diligent search for fire during and after such operations; (3) a qualified person will examine the area that will be traveled between the hot work location and the closest seal prior to the hot work operations; (4) hot work operations will not be conducted in locations that contain 1.0 volume per centum or more of methane, and hot work area will be rock dusted or wetted prior to such operations; and (5) provide an additional 40 pounds of rock dust or one fire extinguisher that will be immediately available during such hot work operations, in addition to the requirements of 30 CFR 75.1100-2(g). The petitioner asserts that application of the existing standard would result in a diminution safety to the miners and that the proposed alternative method would provide at least the same measure of protection as the existing standard.

Docket Number: M-2007-060-C.

Petitioner: AMFIRE Mining Company, LLC, One Energy Place, Latrobe, Pennsylvania 15650.

Mine: Nolo Mine, MSHA I.D. No. 36-08850, located in.

Regulation Affected: 30 CFR 75.364(a) (Weekly examination).

Modification Request: The petitioner requests a modification of the existing standard to permit an alternative method of conducting the required weekly examination to the deepest points of penetration in the mines 2 West Extension Section. The petitioner proposes to: (1) Flood the down dip portions of the 2 West Extension section to a maximum elevation of 1020. The flooding would occur naturally as water infiltrates into part of the mine; and (2) conduct examinations along the water's edge and adjust ventilation controls during the examinations to ensure proper ventilation is maintained, at intervals not to exceed 7 days, as the water rises and/or recedes in the 2 West Extension section. The petitioner states that: (1) The flood level in the 2 West Extension section will be controlled by pumping; (2) a mine dewatering system will be installed in the adjacent 2 Right section that is connected to 2 West Extension via an inseam horizontal borehole with an 8-inch cased inside diameter located at approximately the 1005 elevation to provide water control to a minimum of 1005 foot elevation; (3) a maximum flood elevation will be controlled by monitoring the mine pool via water level sensors and during the required 30 CFR 75.364(a) weekly physical examination of the flood line or water's edge; (4) it is estimated that it takes approximately 300 days for the 2 West Extension section to flood, so if the proposed maximum flood elevation of 1020 feet is reached prior to completion of the dewatering facility, an in-pump station will be used to maintain the approved flood level; (5) flooding the section will provide a water seal for a considerable portion of the worked out area, which will eliminate the requirement to travel into the area for examinations; (6) the alternative to flooding the 2 West Extension section is to control the water by pumping which requires maintaining 6,000 +/− feet of electrical cable, 8 distribution boxes, motor controls, a submersible pump, and other associated electrical components; and (7) pumping the water out of 2 West Extension section would require personnel to travel over a mile from an active section and routed through worked out areas to the pump installation to conduct a pre-shift examination. The petitioner asserts that the proposed alternative method will at all times guarantee no less than the same measure of protection afforded the miners by such standard.

Docket Number: M-2007-008-M.

Petitioner: Phelps Dodge Tyrone, Inc., P.O. Drawer 571, Tyrone, New Mexico 88065.

Mine: Tyrone Mine, MSHA I.D. No. 29-00159, located in Grant County, New Mexico.

Regulation Affected: 30 CFR 56.14207 (Parking procedures for unattended equipment).

Modification Request: The petitioner requests a modification of the existing standard to permit wheel chocks to be placed in front and behind the wheel when the vehicle is parked instead of applying the mechanical parking brake. The petitioner states that the temperature drops below 32 degrees Fahrenheit during the colder months in Grant County. There exists a potential for the mechanical parking brakes to freeze and not release. If the brakes are not fully released prior to operating the vehicle, the effectiveness of the brake is reduced, eventually rendering the brake useless. The petitioner further states that the proposed alternative method would only apply to light vehicles parked on level ground during the winter months when the likelihood of the mechanical parking brake freezing is high. The petitioner asserts that application of the existing standard has the potential of compromising the safety of the miners during the colder months in New Mexico.

Docket Number: M-2007-009-M.

Petitioner: Unimin Corporation, 48 West Boscawen Street, Winchester, Virginia 22601.

Mine: Unimin Elco Plant, MSHA I.D. No. 11-01981, located in Alexander County, Illinois.

Regulation Affected: 30 CFR 56.13020 (Use of compressed air).

Modification Request: The petitioner requests a modification of the existing standard to permit the use of a NIOSH-tested clothes cleaning booth process for cleaning miners' dust laden clothing. The petitioner states that: (1) Only the miners trained in the operation of the NIOSH-tested clothes cleaning booth process will be permitted to use the process; (2) the NIOSH-tested process uses controlled compressed air for the purpose of cleaning miners' dust laden clothing; (3) all miners entering the clothes cleaning booth will be required to wear full seal goggles for eye protection, ear plugs or muffs for hearing protection, and fit tested respirators with N100 filters for respiratory protection; (4) the NIOSH-tested clothes cleaning booth process will have a caution sign conspicuously posted indicating that use of half-face fit-tested respirators with N100 filters, hearing protection, and full seal eye goggles are required before entering the booth. The petitioner asserts that the proposed alternative method would provide at least the same measure of protection as the existing standard, and will provide a direct reduction in exposure to respirable crystalline silica dust. The petitioner has listed additional procedures in this petition that will be used when the proposed alternative method is implemented. Persons may review a complete description of the procedures and training requirements at the MSHA address listed in this notice.

Docket Number: M-2007-010-M.

Petitioner: St. Lawrence Zinc Company, LLC, 408 Sylvia Lake Road, Gouverneur, New York 13642.

Mine: St. Lawrence Zinc Mine, MSHA I.D. No. 30-00185, located in St. Lawrence County, New York.

Regulation Affected: 30 CFR 57.11052(d) (Refuge areas).

Modification Request: The petitioner requests a modification of the existing standard to permit refuge chambers in its underground mines to be exempt from the required waterlines being piped into the refuge chambers. The petitioner proposes to store 50 gallons of potable bottled spring water in the refuge chambers. The petitioner states that: (1) The bottled water would be stored and cycled out in accordance with the suppliers' two year shelf life; (2) the storage of 50 gallons of potable water in each refuge chamber would ensure that the miners have an ample supply of potable drinking water at all times in the refuge chamber, because in a mine disaster, waterlines, pumps, and electrical systems could fail. The petitioner asserts that modification of the existing standard would in no way diminish or lessen the measure of protection afforded by the standard for the miners.

Dated: October 12, 2007.
Patricia W. Silvey,
Director, Office of Standards, Regulations, and Variances.

[FR Doc. E7-20650 Filed 10-18-07; 8:45 am]

BILLING CODE 4510-43-P